FEDERAL DEPOSIT INSURANCE CORPORATION

Notice of a Matter To Be Withdrawn From the Agenda for Consideration at an Agency Meeting

Pursuant to the provisions of the “Government in the Sunshine Act” (5 U.S.C. 552b), notice is hereby given that the following matter will be withdrawn from the “discussion agenda” for consideration at the open meeting of the Board of Directors of the Federal Deposit Insurance Corporation scheduled to be held at 10:00 a.m. on Tuesday, June 15, 2021:

Memorandum and resolution re: Establishment of the FDIC Advisory Council on Innovation.

Requests for further information concerning the meeting may be directed to Ms. Debra A. Decker, Deputy Executive Secretary of the Corporation, at (202) 898-8748.

Dated: June 11, 2021.
Federal Deposit Insurance Corporation.
James P. Sheesley,
Assistant Executive Secretary.

[FR Doc. 2021-12743 Filed 6-16-21; 8:45 am]

BILLING CODE 6714-01-P